DEPARTMENT OF ENERGY

Federal Energy Regulatory Commission

[Docket No. CP98-100-001]

Algonquin Gas Transmission Company; Notice of Application

January 5, 2001.

Take notice that on December 20, 2000, Algonquin Gas Transmission Company (Algonquin) filed an abbreviated application in Docket No. CP98-100-001 to amend its Certificate of Public Convenience and Necessity, pursuant to section 7 of the Natural Gas Act and Part 157 of the Federal Energy Regulatory Commission's Regulations, issued to Algonquin by the Commission's May 27, 1998 “Order Issuing Certificate” in Docket No. CP98-100-000, as more fully set forth in the application which is on file with the Commission and open to public inspection. This filing may be viewed via the internet at http://www.ferc.fed.us/online/rims,htm (call 202-208-2222 for assistance). Any questions regarding the application should be directed to S.E. Tillman, Director of Regulatory Affairs, Algonquin Gas Transmission Company, P.O. Box 1642, Houston, Texas 77251-1642 at (713) 627-5113.

The May 27 Order authorized Algonquin to construct and operate pipeline facilities to provide transportation service to ANP Bellingham Energy Company. In this application, Algonquin requests all authorizations necessary to amend its certificate to revise the initial monthly demand rate under Rate Schedule AFT-CL from $.8399 per Dth to $.9714 per Dth to reflect increased costs associated with construction of the lateral project. Algonquin submits that the increase in estimated costs of approximately $700,000 is a result of: (1) Higher contractor costs; (2) higher right-of-way costs; and (3) increased AFUDC due to attenuation of the construction schedule. In addition, Algonquin provides that since the costs of the proposed facilities will be recovered through an incremental reservation charge, the amendment will have no adverse impact on existing customers.

The application also provides that ANP Bellingham has authorized Algonquin to state that ANP Bellingham agrees to pay such revised rate and does not oppose Algonquin filing to modify the original approved initial rate.

Algonquin provides that no other changes are contemplated with regard to the facilities authorized in Docket No. CP98-100-000, nor in the service to be provided for the proposed receipt or delivery point.

Any person desiring to be hear or to make any protest with reference to said application should on or before January 18, 2001, file with the Federal Energy Regulatory Commission, 888 First Street NE., Washington, DC 20426, a motion to intervene or protest in accordance with the requirements of the Commission's Rules of Practice and procedure (18 CFR 385.211 and 385.214) and the regulations under the NGA (18 CFR 157.10). All protests filed with the Commission will be considered by it in determining the appropriate action to be taken but will not serve to make the protestants parties to the proceeding. Any person wishing to become a party in any proceeding must file a petition to intervene in accordance with the Commission's rules. Comments and protests may be filed electronically via the internet in lieu of paper. See, 18 CFR 385.2001(a)(1)(iii) and the instructions on the Commission's web site at http://www.ferc.fed.us/efi/doorbell.htm.

Take further notice that, pursuant to the authority contained in and subject to the jurisdiction conferred upon the Commission by sections 7 and 15 of the NGA and the Commission's Rules of Practice and procedure, a hearing will be held without further notice before the Commission or its designee on this application if no petition to intervene is filed within the time required herein, if the Commission on its own review of the matter finds that the proposal is required by the public convenience and necessity. If a petition for leave to intervene is timely filed, or if the Commission on its own motion believes that a formal hearing is required, further notice of such hearing will be duly given. Under the procedure provide for, unless otherwise advised, it will be unnecessary for the Applicants to appear or to be represented at the hearing.

David P. Boergers,
Secretary.

[FR Doc. 01-866 Filed 1-10-01; 8:45 am]

BILLING CODE 6717-01-M